ENVIRONMENTAL PROTECTION AGENCY

[FRL-9948-63-OW]

Notice of Open Meeting of the Environmental Financial Advisory Board (EFAB)

AGENCY: Environmental Protection Agency (EPA).

ACTION: Notice of open meeting.

SUMMARY: The EPA's Environmental Financial Advisory Board (EFAB) will hold a public meeting on August 9-10, 2016. EFAB is an EPA advisory committee chartered under the Federal Advisory Committee Act to provide advice and recommendations to EPA on creative approaches to funding environmental programs, projects, and activities.

The purpose of this meeting is to hear from informed speakers on environmental finance issues, proposed legislation, and EPA priorities; to discuss activities, progress, and Preliminary recommendations with regard to current EFAB work projects; and to consider request for assistance from EPA offices. Environmental finance discussions and presentations are expected on, but not limited to, the following topics: Household affordability challenges; small drinking/wastewater systems; public-private partnerships; financing pre-development activities; financing operations and maintenance costs at green infrastructure sites; financing stormwater and green infrastructure programs. The meeting is open to the public; however, seating is limited. All members of the public who wish to attend the meeting must register, in advance, no later than Monday, July 25, 2016. Registration is required for all members of the public to ensure an expeditious security process.

DATES: The full board meeting will be held Tuesday, August 9, 2016 from 1:00 p.m.-5:00 p.m., and Wednesday, August 10, 2016 from 9:00 a.m.-5:00 p.m.

ADDRESSES: U.S. Environmental Protection Agency, Region 8 Office, 1595 Wynkoop Street, Denver, Colorado 80202.

FOR FURTHER INFORMATION CONTACT: For information on access or services for individuals with disabilities, or to request accommodations for a disability, please contact Sandra Williams at (202) 564-4999 or williams.sandra@epa.gov, at least 10 days prior to the meeting to allow as much time as possible to process your request.

Andrew D. Sawyers,
Director, Office of Wastewater Management, Office of Water.

[FR Doc. 2016-15727 Filed 6-30-16; 8:45 am]

BILLING CODE 6560-50-P